OFFICE OF PERSONNEL MANAGEMENT

Submission for Review: Information Collection 3206-NEW; Questionnaire for Public Trust Positions (SF 85P) and Supplemental Questionnaire for Selected Positions (SF 85P-S)

AGENCY: U.S. Office of Personnel Management.

ACTION: 60-Day Notice and request for comments.

SUMMARY: Federal Investigative Services (FIS), U.S. Office of Personnel Management (OPM) offers the general public and other federal agencies the opportunity to comment on an information collection request (ICR), Office of Management and Budget (OMB) Control No. 3206-NEW, for Questionnaire for Public Trust Positions, Standard Form 85P (SF 85P) and Supplemental Questionnaire for Selected Positions, Standard Form SF 85P-S (SF 85P-S). As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until February 28, 2011. This process is conducted in accordance with 5 CFR 1320.1.

ADDRESSES: Interested persons are invited to submit written comments on the proposed information collection to the Federal Investigative Services, U.S. Office of Personnel Management, 1900 E Street, NW., Washington, DC 20415, Attention: Lisa Loss or sent via electronic mail to FISFormsComments@opm.gov.

FOR FURTHER INFORMATION CONTACT: A copy of this ICR, with applicable supporting documentation, may be obtained by contacting the Federal Investigative Services, U.S. Office of Personnel Management, 1900 E Street, NW., Washington, DC 20503, Attention: Lisa Loss or sent via electronic mail to FISFormsComments@opm.gov.

SUPPLEMENTARY INFORMATION: Questionnaire for Public Trust Positions, SF 85P and Supplemental Questionnaire for Selected Positions, SF 85P-S and Parallel, electronic version of the SF 85P and SF 85P-S, including accompanying releases, housed in a system named e-QIP (Electronic Questionnaires for Investigative Processing), are information collections completed by applicants for, or incumbents of, Federal Civilian Government positions, or positions in private entities performing work for the Government under contract. The collections are used as the basis of information for background investigations to establish that such persons are:

• Suitable for employment or retention in Federal employment in a public trust position or fit for employment or retention in Federal employment in the excepted service when the duties to be performed are equivalent in degree of trust reposed in the incumbent to a public trust position;

• Fit based on character and conduct for contract employment on behalf of the Federal Government, or eligible for physical and logical access to federally controlled facilities or information systems as a contract employee, when the duties to be performed are equivalent to the duties performed by an employee in a public trust position.

The SF 85P and SF 85P-S are completed by civilian employees of the Federal Government, and individuals not employed with the Federal Government, Non-Federal employees, including Federal contractors and individuals otherwise not directly employed by the Federal Government. For applicants, the SF 85P and SF 85P-S are to be used only after a conditional offer of employment has been made. The SF 85P-S is supplemental to the SF 85P. It is estimated that 112,894 non-Federal individuals, will complete the SF 85P annually. The SF 85P takes approximately 75 minutes to complete. The estimated annual burden is 141,118 hours. It is estimated that 11,717 non-Federal individuals will complete the SF 85P-S annually. The SF 85P-S takes approximately 10 minutes to complete. The estimated annual burden is 1,953 hours. e-QIP (Electronic Questionnaires for Investigations Processing) is a web-based system application that currently houses electronic versions of the SF 85P and SF 85P-S. This internet data collection tool provides faster processing time and immediate data validation to ensure accuracy of the respondent's personal information. The e-Government initiative mandates that agencies utilize e-QIP for all investigations and reinvestigations. A variable in assessing burden hours is the nature of the electronic application. The electronic application includes branching questions and instructions which provide for a tailored collection from the respondent based on varying factors in the respondent's personal history. The burden on the respondent is reduced when the respondent's personal history is not relevant to a particular question, since the question branches, or expands for additional details, only for those persons who have pertinent information to provide regarding that line of questioning. As such, the burden on the respondent will vary depending on whether the information collection relates to the respondent's personal history. Additionally, once entered, a respondent's complete and certified investigative data remains secured in the e-QIP system until the next time the respondent is sponsored by an agency to complete a new investigative form. Upon initiation, the respondent's previously entered data (except `yes/no' questions) will populate a new investigative request and the respondent will be allowed to update their information and certify the data. In this instance, time to complete the form is reduced significantly.

OPM intends to establish consistency and alignment of format and text, as appropriate, regarding the Standard Form investigative questionnaires. OPM proposes changes to the SF 85P. The collection will include requests for email addresses and mobile phone numbers in order to facilitate the investigation. Section 8 collects U.S. Passport Information which was previously collected under the Citizenship Section. Section 9 now collects Citizenship. Additional information is collected that will assist in verifying citizenship of respondents born outside of the U.S. Branching questions inserted after each response tailor the elicitation of information to the respondent's personal history. The collection in Section 10, Dual/Multiple Citizenship & Foreign Passport Information, has been expanded to collect more detailed information regarding other citizenship claims and the use of foreign passport(s). Section 9, Where You Have Lived was amended to Section 11. Respondents will not be required to list temporary locations of less than 90 days, whereas the previous version of the form allowed this exception only for temporary military duty locations under 90 days. Residence verifier information will be collected for a period of `3 years' vice `5 years.' Section 10, Where You Went to School, was amended to Section 12. Section 11, Your Employment Activities was amended to include, Section 13a, Employment Activities-Employment & Unemployment Record. Non-government employment (excluding self-employment) was added to the employment types for clarity. Section 13b, Employment Activities-Former Federal Service was added to collect information regarding former federal employment. Section 12 became Section 13c, Employment Record. The collection was expanded to require reporting of adverse incidents in the workplace, specifically written warnings, official reprimands, suspensions, and discipline for misconduct in the workplace. Section 14 became Selective Service Record. The Selective Service Web site, http://www.sss.gov, was added to assist the respondent in obtaining their Selective Service number. Section 15 became Military History. The collection was expanded to require military discharge type and details of any courts martial within the last 7 years. The collection regarding foreign military service was expanded to collect information regarding service in a foreign intelligence, diplomatic, security forces, militia, other defense force, or government agency, and to collect additional details of such service. In Section 17, Marital Status, the collection was expanded to collect cohabitant and former spouse information. Section 18 became Relatives and the collection was expanded to collect aliases of named relatives. Section 19 became Foreign Countries You Have Visited. Branching questions were added to collect more specific details pertinent to incidents of being questioned, searched or detained by local customs or security service officials, involvement in any encounter with the police or in contact with any person known or suspected of being involved or associated with foreign intelligence, terrorist, security, or military organizations. In Section 20, Police Record, branching questions were added to inquire about the disposition of criminal proceedings, and to inquire about offenses related to firearms, explosives, alcohol and drugs. Questions were added to the section in order to identify respondents who may be impacted by the restrictions cited in the Lautenberg Amendment. The exception to omit traffic fines of less than $150 was changed to $300 (unless related to alcohol or drugs) to account for the nature of fine increases since the 1995 version of the form. Section 21 became Illegal Use of Drugs and Drug Activity. The collection was expanded to collect information regarding illegal use of drugs and drug involvement during the last 7 years, and branching questions were added to inquire about drug involvement while employed as a law enforcement officer, prosecutor or courtroom official, misuse of prescription drugs and involvement in counseling or treatment as a result of illegal use of drugs. Section 22, Use of Alcohol, was added, to collect information regarding negative impacts of alcohol on the respondent's work performance and professional relationships during the last 7 years, and to identify attempts at rehabilitation through counseling or treatment. Section 23, Investigations and Clearance Record, was expanded to collect additional information necessary for investigation to obtain relevant prior records and to elicit explanations regarding prior security clearance adverse actions of debarments from federal employment. In Section 24, Financial Record, branching questions were added to elicit specific detailed information pertaining to each financial area instead of an open text field for respondents to provide explanation. A question was added regarding involvement with a credit counseling service to capture mitigating information from respondents who seek assistance to resolve an inability to meet financial obligations. Section 25, Use of Information Technology Systems, was added to elicit information pertinent to respondent's illegal or unauthorized access or attempt to access any information technology system. Section 26, Involvement in Non-Criminal Court Actions, was added to collect information when the respondent, in the last seven years, has been a defendant in any public record civil court action alleging fraud or intentional tortious conduct. Section 27, Association Record, was added to collect detailed information pertinent to a respondent's involvement in terrorist organizations, association with persons involved in activities to further terrorism and/or to overthrown the U.S. Government by force or violence. Verbiage was added to the Authorization for Release of Information authorizing the Social Security Administration (SSA) to verify respondent's Social Security Number and provide the results to OPM. The Authorization for Release of Medical Information was updated to acknowledge the Health Insurance Portability and Accountability Act (HIPPA) and to provide information regarding the circumstances when its use is required. The Fair Credit Reporting Disclosure and Authorization Form was made part of the proposed SF 85P as required under previous OMB Terms of Clearance in order to standardize the release by which collection of credit bureau reports is authorized.

OPM also proposes changes to the SF 85P-S. Questions regarding the illegal use of drugs in the last 7 years will be removed as this information will be collected in the primary SF 85P questionnaire; however, the question regarding illegal use of drugs ever while in a public safety position or position of trust will remain. Questions regarding alcohol treatment or counseling in the last 7 years will be removed as this information will be collected in the primary SF 85P questionnaire.

U.S. Office of Personnel Management.
John Berry,
Director.

[FR Doc. 2010-32871 Filed 12-28-10; 8:45 am]

BILLING CODE 6325-38-P